DEPARTMENT OF LABOR

Mine Safety and Health Administration

[OMB Control No. 1219-0014]

Proposed Extension of Information Collection: Hazardous Conditions Complaints

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Hazardous Conditions Complaints.”

DATES: All comments must be received on or before November 24, 2025.

ADDRESSES: Comments concerning the information collection requirements of this notice may be sent by any of the methods listed below. Please note that comments received after the deadline will not be considered.

• Federal E-Rulemaking Portal: https://www.regulations.gov. Follow the on-line instructions for submitting comments for docket number MSHA-2025-0054.

• Mail/Hand Delivery: DOL-MSHA, Office of Standards, Regulations, and Variances, 200 Constitution Avenue NW, Room C3522, Washington, DC 20210. Before visiting MSHA in person, call 202-693-9440 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal (MNM) mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information under the information collection request (ICR) titled “Hazardous Conditions Complaints.” This information collection is intended to ensure that notifications of an alleged violation or imminent danger made by a miner or a representative of miners is investigated and addressed as soon as possible.

MSHA regulations in 30 CFR part 43 implement section 103(g) of the Mine Act and provide the procedures for processing hazardous conditions complaints (HCC). Under section 103(g)(1) of the Mine Act, 30 U.S.C. 813(g)(1), a representative of miners, or a miner where there is no representative of miners, who has reasonable grounds to believe that a violation of the Mine Act or a mandatory health or safety standard exists, or an imminent danger exists, has the right to obtain a special inspection by giving notice of the violation or danger to the Secretary or their duly authorized representative. Upon receipt of a notification, a special inspection must be made as soon as possible to determine if the violation or imminent danger exists. If the Secretary determines that a violation or imminent danger does not exist, they must notify the miners' representative or the miner of that determination.

Under section 103(g)(2) of the Mine Act, 30 U.S.C. 813(g)(2), the Secretary must establish procedures for informal review of any refusal by an authorized representative to issue a citation with respect to an alleged violation or withdrawal order with respect to an alleged danger, including notification to the miners' representative or the miner who requests the review of the reasons for the Secretary's final disposition of the case.

Burden costs associated with this ICR include:

1. Miners or miners' representatives giving MSHA written notices of hazardous conditions, including violations of the Mine Act or a mandatory health or safety standard exists, or an imminent danger; and

2. MSHA processing complaints of hazardous conditions, including providing notice of negative findings regarding special inspections and statements of final decisions regarding informal reviews.

The associated standards that authorize the collection of information are described below.

1. Miners or Miners' Representatives Giving Notice of Hazardous Conditions to MSHA

Special Inspections

Under 30 CFR 43.4(a), a representative of miners or a miner where there is no representative, who has reasonable grounds to believe that a violation of the Mine Act or a mandatory health or safety standard exists, or that an imminent danger exists, may obtain a special inspection by giving notice to the Secretary or any authorized representative of the Secretary of a violation or danger.

Under 30 CFR 43.4(b), the notice must set forth the alleged violation or imminent danger as well as the location of the violation or danger and must be in writing signed by the representative of miners or miner giving the notice. Under 30 CFR 43.4(c), a copy of the written notice must be provided to the operator or his agent by the Secretary or his authorized representative no later than the time that the inspection begins. In addition, if the notice indicates that an imminent danger exists, the operator or his agent must be notified as quickly as possible of the alleged danger. The name of the person giving the notice and the names of any individual miners referred to in the notice cannot appear in the copy of the written notice or in a notification provided to the operator.

Informal Reviews

Under 30 CFR 43.7(a), where the authorized representative or the Secretary refuses to issue a citation or order with respect to the alleged violation or imminent danger, the representative of miners or miner who provided the notice may obtain review of a refusal.

Under 30 CFR 43.7(b), a request for informal review of a refusal to issue a citation or withdrawal order must be sent in writing to the appropriate District Manager within 10 days of the date of the refusal to issue a citation or withdrawal order and must be accompanied by any supporting information the person requesting review wishes to submit.

Under 30 CFR 43.8, a person who provided notice of a hazardous condition and to whom a notice of negative finding has been issued may request an informal review of the finding.

2. MSHA Processing Hazardous Conditions Complaints

Notices of Negative Finding Regarding Special Inspections

Under 30 CFR 43.6(a), if it is determined that a special inspection is not warranted, a written notice of negative finding must be issued as soon as possible following the determination.

Under 30 CFR 43.6(b), if it is determined that an inspection is warranted and upon the inspection it is determined that neither a citation nor a withdrawal order should be issued for the alleged violation or imminent danger, a written notice of negative finding must be issued by the authorized representative of the Secretary prior to leaving the mine premises.

Under 30 CFR 43.6(c), any notice of negative finding must be issued to the representative of miners or the miner seeking the special inspection, and a copy must be served upon the operator.

Written Statements of Final Disposition Regarding Informal Reviews

Under 30 CFR 43.7(d), after a review of all written and oral statements submitted, the District Manager may either affirm the refusal to issue a citation or withdrawal order or may direct that a new inspection be conducted with respect to the alleged violation or imminent danger. The District Manager must furnish the person requesting review with a written statement of the reasons for his or her final disposition of the request as soon as possible. A copy of the statement must be furnished to the operator. The District Manager's determination in the matter will be final.

II. Desired Focus of Comments

MSHA is soliciting comments concerning the proposed information collection titled “Hazardous Conditions Complaints.” MSHA is particularly interested in comments that:

• Evaluate whether the information collection is necessary for the proper performance of the functions of the Agency, including whether the information has practical utility;

• Evaluate the accuracy of MSHA's estimate of the burden of the information collection, including the validity of the methodology and assumptions used;

• Suggest methods to enhance the quality, utility, and clarity of the information to be collected; and

• Minimize the burden of the information collection on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9440 to make an appointment.

Questions about the information collection requirements may be directed to the person listed in the FOR FURTHER INFORMATION section of this notice.

III. Current Actions

This ICR concerns provisions for Hazardous Conditions Complaints. MSHA has updated the data with respect to the number of respondents, responses, time burden, and burden costs supporting this ICR from the previous ICR.

Type of Review: Extension, without change, of a currently approved collection.

Agency: Mine Safety and Health Administration.

OMB Number: 1219-0014.

Affected Public: Business or other for-profit entity.

Number of Annual Respondents: 2,249.

Frequency: On occasion.

Number of Annual Responses: 2,249.

Annual Time Burden: 450 hours.

Annual Respondent or Recordkeeper Costs: $0.

MSHA Form: Hazardous Conditions Complaint (Web Only Instrument).

Comments submitted in response to this notice will be summarized and included in the request for Office of Management and Budget approval of the proposed ICR; they will become a matter of public record and be available at https://www.reginfo.gov.

Jessica D. Senk,
Certifying Officer, Mine Safety and Health Administration.

[FR Doc. 2025-18538 Filed 9-24-25; 8:45 am]

BILLING CODE 4510-43-P